DEPARTMENT OF TRANSPORTATION

Federal Aviation Administration

14 CFR Part 39

[Docket No. 2001-CE-40-AD; Amendment 39-12515; AD 2001-23-16]

RIN 2120-AA64

Airworthiness Directives; Aeromot-Industria Mecanico Metalurgica Itda. Models AMT-100 and AMT-200 Powered Sailplanes

AGENCY: Federal Aviation Administration, DOT.

ACTION: Final rule; request for comments.

SUMMARY: This amendment adopts a new airworthiness directive (AD) that applies to certain Aeromot-Industria Mecanico Metalurgica Itda. (Aeromot) Models AMT-100 and AMT-200 powered sailplanes. This AD requires you to inspect (one-time) the main landing gear lever and elevator control rod for interference, warping, or incorrect gaps; and requires you to reconfigure or replace discrepant parts. This AD also requires you to report to the Federal Aviation Administration (FAA) any instances of interference, warping, or incorrect gaps. This AD is the result of mandatory continuing airworthiness information (MCAI) issued by the airworthiness authority for Brazil. The actions specified by this AD are intended to detect and correct bending or warping in the main landing gear lever before it interferes with the elevator control rod. Such interference could result in the elevator control becoming jammed with consequent loss of control of the powered sailplane.

DATES: This AD becomes effective on December 7, 2001.

The Director of the Federal Register approved the incorporation by reference of certain publications listed in the regulation as of December 7, 2001.

The FAA must receive any comments on this rule on or before December 26, 2001.

ADDRESSES: Submit comments to FAA, Central Region, Office of the Regional Counsel, Attention: Rules Docket No. 2001-CE-40-AD, 901 Locust, Room 506, Kansas City, Missouri 64106.

You may get the service information referenced in this AD from Aeromot-Industria Mecanico Metalurgica ltda., Av. Das Industrias, 1210-Bairro Anchieta, Caixa Postal 8031, 90 200-290-Porto Alegre-RS-Brazil. You may view this information at FAA, Central Region, Office of the Regional Counsel, Attention: Rules Docket No. 2001-CE-40-AD, 901 Locust, Room 506, Kansas City, Missouri 64106; or at the Office of the Federal Register, 800 North Capitol Street, NW, suite 700, Washington, DC.

FOR FURTHER INFORMATION CONTACT: Brian Hancock, Aerospace Engineer, FAA, Small Airplane Directorate, 901 Locust, Room 301, Kansas City, Missouri 64106; telephone: (816) 329-4143; facsimile: (816) 329-4090.

SUPPLEMENTARY INFORMATION:

Discussion

What Events Have Caused This AD?

The Departamento de Aviacao Civil (DEAC), which is the airworthiness authority for Brazil, recently notified FAA that an unsafe condition may exist on certain Aeromot Models AMT-100 and AMT-200 powered sailplanes. The DEAC reports an instance where the elevator control jammed on one of the affected powered sailplanes. This occurred when the main landing gear lever interfered with the nut that attaches the rod end of the elevator control rod.

What Are the Consequences if the Condition Is Not Corrected?

Bending or warping in the main landing gear lever, if not detected and corrected before it interferes with the elevator control rod, could result in the elevator control becoming jammed with consequent loss of control of the powered sailplane.

Is There Service Information That Applies to This Subject?

Aeromot has issued Service Bulletin (S.B.) No. 200-27-078, Issue Date: September 18, 2001.

The service bulletin includes procedures for inspecting the main landing gear lever and elevator control rod for interference, warping, or incorrect gaps. It also specifies reconfiguring or replacing discrepant parts.

What Action Did the DEAC Take?

The DEAC classified this service bulletin as mandatory and issued Brazilian Emergency Airworthiness Directive (EAD) 2001-10-01, dated October 9, 2001, in order to ensure the continued airworthiness of these powered sailplanes in Brazil.

Was This in Accordance With the Bilateral Airworthiness Agreement?

These powered sailplane models are manufactured in Brazil and are type certificated for operation in the United States under the provisions of section 21.29 of the Federal Aviation Regulations (14 CFR 21.29) and the applicable bilateral airworthiness agreement.

Pursuant to this bilateral airworthiness agreement, the DEAC has kept us informed of the situation described above.

The FAA's Determination and an Explanation of the Provisions of This AD

What Has FAA Decided?

The FAA has examined the findings of the DEAC; reviewed all available information, including the service information referenced above; and determined that:

—The unsafe condition referenced in this document exists or could develop on other Aeromot Models AMT-100 and AMT-200 powered sailplanes of the same type design that are registered for operation in the United States;

—The actions specified in the previously-referenced service information (as specified in this AD) should be accomplished on the affected powered sailplanes; and

—AD action should be taken in order to correct this unsafe condition.

What Does This AD Require?

This AD requires you to inspect (one-time) the main landing gear lever and elevator control rod for interference, warping, or incorrect gaps; and requires you to reconfigure or replace discrepant parts. This AD also requires you to report to the FAA any instances of interference, warping, or incorrect gaps.

We will use the information from the reports to determine whether additional rulemaking action is necessary (e.g., repetitive inspections).

In preparation of this rule, we contacted type clubs and aircraft operators to obtain technical information and information on operational and economic impacts. We did not receive any information through these contacts. If received, we would have included, in the rulemaking docket, a discussion of any information that may have influenced this action.

Will I Have the Opportunity to Comment Prior to the Issuance of the Rule?

Because the unsafe condition described in this document could result in the elevator control becoming jammed with consequent loss of control of the powered sailplane, we find that notice and opportunity for public prior comment are impracticable. Therefore, good cause exists for making this amendment effective in less than 30 days.

Comments Invited

How Do I Comment on This AD?

Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of this AD action and determining whether we need to take additional rulemaking action.

Are There Any Specific Portions of This AD I Should Pay Attention to?

We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How Can I Be Sure FAA Receives my Comment?

If you want us to acknowledge the receipt of your comments, you must include a self-addressed, stamped postcard. On the postcard, write “Comments to Docket No. 2001-CE-40-AD.” We will date stamp and mail the postcard back to you.

Regulatory Impact

Does This AD Impact Various Entities?

These regulations will not have a substantial direct effect on the States, on the relationship between the national Government and the States, or on the distribution of power and responsibilities among the various levels of government. Therefore, FAA has determined that this final rule does not have federalism implications under Executive Order 13132.

Does This AD Involve a Significant Rule or Regulatory Action?

We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2001-23-16 Aeromot-Industria Mecanico Metalurgica ITDA.: Amendment 39-12515; Docket No. 2001-CE-40-AD

(a) What powered sailplanes are affected by this AD? This AD affects the following powered sailplane models and serial numbers that are certificated in any category:

Models | Serial Nos.
AMT-100 | 100.001 through 100.003, 100.005 through 100.015, 100.017, 100.019, 100.022 through 100.039, and 100.041 through 100.044.
AMT-100(remotorized to AMT-200) 100.004, 100.016, 100.018, 100.020, and 100.021
AMT-200 | 200.040, 200.045 through 200.105, 200.108 through 200.111, 200.113 through 200.118, and 200.121.

(b) Who must comply with this AD? Anyone who wishes to operate any of the above powered sailplanes must comply with this AD.

(c) What problem does this AD address? The actions specified by this AD are intended to detect and correct bending or warping in the main landing gear lever before it interferes with the elevator control rod. Such interference could result in the elevator control becoming jammed with consequent loss of control of the powered sailplane.

(d) What actions must I accomplish to address this problem? To address this problem, you must accomplish the following:

Actions | Compliance | Procedures
(1) Inspect (one-time) the main landing gear lever and elevator control rod for interference, warping, or incorrect gaps | Inspect within the next 5 hours time-in-service (TIS) after December 7, 2001 (the effective date of this AD) | Inspect in accordance with the procedures in Aeromot Service Bulletin (S.B.) No. 200-27-078, Issue Date: September 18, 2001.
(2) If any discrepancy is found during the inspection required by paragraph (d)(1) of this AD, accomplish the following: (i) Reconfigure or replace any discrepant parts, as specified in the service information; and (ii) Report these discrepancies to the FAA. Include the powered sailplane model, serial number, the total number of hours TIS, and an explanation of the discrepancy. The Office of Management and Budget (OMB) approved the information collection requirements contained in this regulation under the provisions of the Paperwork Reduction Act of 1980 (44 U.S.C. 3501 et seq.) and assigned OMB Control Number 2120-0056 | Accomplish any reconfiguration or replacement prior to further flight after the inspection required by paragraph (d)(1) of this AD. Submit the report within 10 days after the inspection or within 10 days after December 7, 2001 (the effective date of this AD), whichever occurs later. | Accomplish any reconfiguration or replacement in accordance with the applicable maintenance manual. Submit the report to FAA, Att: Brian Hancock, Aerospace Engineer, Small Airplane Directorate, 901 Locust, Room 301, Kansas City, Missouri 64106; telephone: (816) 329-4143; facsimile: (816) 329-4090.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each powered sailplane identified in paragraph (a) of this AD, regardless of whether it has been modified, altered, or repaired in the area subject to the requirements of this AD. For powered sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Brian Hancock, Aerospace Engineer, FAA, Small Airplane Directorate, 901 Locust, Room 301, Kansas City, Missouri 64106; telephone: (816) 329-4143; facsimile: (816) 329-4090.

(g) What if I need to fly the powered sailplane to another location to comply with this AD? The FAA can issue a special flight permit under sections 21.197 and 21.199 of the Federal Aviation Regulations (14 CFR 21.197 and 21.199) to operate your powered sailplane to a location where you can accomplish the requirements of this AD.

(h) Are any service bulletins incorporated into this AD by reference? Actions required by this AD must be done in accordance with Aeromot Service Bulletin (S.B.) No. 200-27-078, Issue Date: September 18, 2001. The Director of the Federal Register approved this incorporation by reference under 5 U.S.C. 552(a) and 1 CFR part 51. You can get copies from Aeromot-Industria Mecanico Metalurgica ltda., Av. Das Industrias, 1210-Bairro Anchieta, Caixa Postal 8031, 90 200-290-Porto Alegre-RS-Brazil. You may view this information at FAA, Central Region, Office of the Regional Counsel, 901 Locust, Room 506, Kansas City, Missouri, or at the Office of the Federal Register, 800 North Capitol Street, NW, suite 700, Washington, DC.

(i) When does this amendment become effective? This amendment becomes effective on December 7, 2001.

Note 2: The subject of this AD is addressed in Brazilian Emergency Airworthiness Directive (EAD) 2001-10-01, dated October 9, 2001.

Issued in Kansas City, Missouri, on November 14, 2001.
Michael K. Dahl,
Acting Manager, Small Airplane Directorate, Aircraft Certification Service.

[FR Doc. 01-29221 Filed 11-23-01; 8:45 am]

BILLING CODE 4910-13-U